DEPARTMENT OF TRANSPORTATION

Federal Aviation Administration

Eighth Meeting: RTCA Special Committee 221: Aircraft Secondary Barriers and Alternative Flight Deck Security Procedures

AGENCY: Federal Aviation Administration (FAA), DOT.

ACTION: Notice of RTCA Special Committee 221 meeting: Aircraft Secondary Barriers and Alternative Flight Deck Security Procedures.

SUMMARY: The FAA is issuing this notice to advise the public of a meeting of RTCA Special Committee 221: Aircraft Secondary Barriers and Alternative Flight Deck Security Procedures

DATES: The meeting will be held November 16-17, 2010. November 16th from 12 p.m. to 5 p.m., November 17th from 9 a.m. to 5 p.m.

ADDRESSES: The meeting will be held at RTCA, Inc., Colson Board Room, 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 221: Aircraft Secondary Barriers and Alternative Flight Deck Security Procedures meeting. The agenda will include:

• Welcome/Introductions/Administrative Remarks.

• Approval of Summary of the Seventh Meeting held September 14-15, 2010, RTCA Paper No. 187-10/SC221-021.

• Leadership Comments.

• Review of Working Group actions—Status Report.

• Discussion of Working Group reports: Re-allocation of groups, capture learning points, discuss additional or follow-on goals.

• Presentation of Final Report Draft.

• Break out Sessions—continue work on Final Report Draft.

• Approval and Tasking of Existing/Proposed Working Groups.

• Other Business—Including Proposed Agenda, Date and Place for Next Meeting.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 22, 2010.
Robert L. Bostiga,
RTCA Advisory Committee.

[FR Doc. 2010-27643 Filed 11-1-10; 8:45 am]

BILLING CODE 4910-13-P